DEPARTMENT OF THE INTERIOR

Bureau of Indian Affairs

[223A2100DD/AAKC001030/A0A501010.999900 253G]

Self-Governance PROGRESS Act Negotiated Rulemaking Committee; Notice of Meeting

AGENCY: Bureau of Indian Affairs, Interior.

ACTION: Notice of virtual public meeting.

SUMMARY: In accordance with the Federal Advisory Committee Act, the Self-Governance PROGRESS Act Negotiated Rulemaking Committee (Committee), will hold their first virtual public meeting to negotiate and advise the Secretary of the Interior (Secretary) on a proposed rule to implement the Practical Reforms and Other Goals To Reinforce the Effectiveness of Self-Governance and Self-Determination for Indian Tribes Act of 2019 (PROGRESS Act).

DATES:

• Meeting: The meeting is open to the public to be held virtually on Monday, August 29, 2022; from 1:00 to 5:00 p.m. Eastern Time. Please see SUPPLEMENTARY INFORMATION below for details on how to participate.

• Comments: Interested persons are invited to submit comments on or before October 11, 2022. Please see ADDRESSES below for details on how to submit written comments.

ADDRESSES: Send your comments to Ms. Vickie Hanvey, Designated Federal Officer, Office of Self-Governance, Office of the Assistant Secretary—Indian Affairs, 1849 C Street NW, Mail Stop 3624, Washington, DC 20240; or by email to comments@bia.gov. Please reference the Committee in the subject line of your email.

FOR FURTHER INFORMATION CONTACT: Vickie Hanvey, Designated Federal Officer, comments@bia.gov, (918) 931-0745.

SUPPLEMENTARY INFORMATION: This meeting is being held under the PROGRESS Act, the Negotiated Rulemaking Act, and the Federal Advisory Committee Act. The Committee is to negotiate and reach consensus on recommendations for a proposed rule that will replace the existing regulations at 25 CFR part 1000. The Committee will be charged with developing proposed regulations for the Secretary's implementation of the PROGRESS Act's provisions regarding the DOI's Self-Governance Program. See Public Law 116-180.

The PROGRESS Act amends subchapter I of the Indian Self-Determination and Education Assistance Act (ISDEAA), 25 U.S.C. 5301 et seq., which addresses Indian Self-Determination, and subchapter IV of the ISDEAA which addresses DOI's Tribal Self-Governance Program. The PROGRESS Act also authorizes the Secretary to adapt negotiated rulemaking procedures to the unique context of self-governance and the government-to-government relationship between the United States and Indian Tribes. The Federal Register notice published on May 18, 2022 (87 FR 30256) discussed the issues to be negotiated and the members of the Committee.

Meeting Agenda: Detailed information about Committee meetings, including detailed agendas, can be accessed at https://www.bia.gov/service/progress-act.

I. Welcome, blessing, and roll call;

II. Committee operating protocols;

III. Negotiated rulemaking process;

IV. Schedule and agenda setting for future meetings;

V. Committee caucus;

VI. Public comment; and

VII. Adjourn.

Meeting Accessibility/Special Accommodations: The Committee meeting will begin at 1:00 p.m. Eastern Time on Monday, August 29, 2022. Members of the public wishing to attend the meeting should visit https://teams.microsoft.com/l/meetup-join/19%3ameeting_NzQ1ZjI1MDctYmE2ZC00NTEyLWFkZGMtZmUwYzE2NTg3NDA0%40thread.v2/0?context=%7b%22Tid%22%3a%220693b5ba-4b18-4d7b-9341-f32f400a5494%22%2c%22Oid%22%3a%2213321130-a12b-4290-8bcf-30387057bd7b%22%2c%22IsBroadcastMeeting%22%3atrue%7d&btype=a&role=a for virtual access.

Please make requests in advance for sign language interpreter services, assistive listening devices, or other reasonable accommodations. We ask that you contact the person listed in the (see FOR FURTHER INFORMATION CONTACT) section of this notice at least seven (7) business days prior to the meeting to give the Department of the Interior sufficient time to process your request. All reasonable accommodation requests are managed on a case-by-case basis.

Individuals in the United States who are deaf, blind, hard of hearing, or have a speech disability may dial 711 (TTY, TDD, or TeleBraille) to access telecommunications relay services. Individuals outside the United States should use the relay services offered within their country to make international calls to the point-of-contact in the United States.

Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Bryan Newland,
Assistant Secretary—Indian Affairs.

[FR Doc. 2022-17284 Filed 8-10-22; 8:45 am]

BILLING CODE 4337-15-P